DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Current Population Survey, Annual Social and Economic Supplement.

OMB Control Number: 0607-0354.

Form Number(s): CPS-580 (ASEC), CPS-580 (ASEC)SP, CPS-676, CPS-676(SP).

Type of Request: Revision of a currently approved collection.

Burden Hours: 36,400.

Number of Respondents: 78,000.

Average Hours per Response: 28 minutes.

Needs and Uses: The purpose of this request for review is to obtain clearance for the Annual Social and Economic Supplement (ASEC), which we will conduct in conjunction with the February, March, and April Current Population Survey (CPS). Congressional passage of the State Children's Health Insurance Program, or Title XXI, led to a mandate from Congress in 1999 that the sample size for the CPS, and specifically the Annual Social and Economic Supplement (ASEC), be increased to a level whereby more reliable estimates can be derived for the number of individuals participating in this program at the state level. By administering the ASEC in February, March, and April, we have been able to achieve this goal.

The U.S. Census Bureau has conducted this supplement annually for over 60 years. The Census Bureau and the Bureau of Labor Statistics (BLS) sponsor this supplement.

The proposed supplement, as it will appear in the CPS instrument, contains the same items that were in the 2012 ASEC instrument, with the exception that questions on current public assistance (Q96—Q97) are no longer included.

Affected Public: Individuals or households.

Frequency: Annually.

Respondent's Obligation: Voluntary.

Legal Authority: Title 13, United States Code, Section 182, and Title 29, United States Code, Sections 1-9.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: November 27, 2012.
Gwellnar Banks,
Management Analyst, Office of the Chief Information Officer.

[FR Doc. 2012-29054 Filed 11-30-12; 8:45 am]

BILLING CODE 3510-07-P